DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, June 25, 2009, 6 p.m. to June 26, 2009, 5 p.m., Embassy Suites, 1250 22nd Street NW., Washington, DC 20037 which was published in the Federal Register on May 27, 2009, 74 FR 25261.

This meeting will be held on August 3, 2009 from 8:30 a.m. until 5 p.m. The meeting is closed to the public.

Dated: June 18, 2009.
Jennifer Spaeth,
Director, Office of Federal Advisory Committee Policy.

[FR Doc. E9-15055 Filed 6-25-09; 8:45 am]

BILLING CODE 4140-01-P